DEPARTMENT OF HOUSING AND URBAN DEVELOPMENT

[Docket No. FR-5076-D-06]

Delegations of Authority for the Office of Housing—Federal Housing Administration (FHA); Redelegation of Authority Regarding Single Family Housing Programs

AGENCY: Office of the Assistant Secretary for Housing—Federal Housing Commissioner, HUD.

ACTION: Notice of revocation and redelegation of authority for single family housing programs.

SUMMARY: On August 11, 2003, the Assistant Secretary for Housing-Federal Housing Commissioner issued an up-to-date comprehensive delegation of authority for single family housing programs. This notice of delegation of authority was published on August 20, 2003. This notice amends that redelegation of authority to reflect changes that have occurred since that time.

DATES: Effective Date: September 15, 2006.

FOR FURTHER INFORMATION CONTACT: Wanda Sampedro, Special Assistant to the Deputy Assistant Secretary for the Office of Single Family Housing, Office of Housing, Department of Housing and Urban Development, 451 Seventh Street, SW., Room 9282, Washington, DC 20410, telephone (202) 708-2676, extension 2324. (This is not a toll-free number). Persons with hearing or speech impairments may access this number by calling HUD's toll-free Federal Information Relay Service number at 1-800-877-8339.

SUPPLEMENTARY INFORMATION: Section I. of this notice sets forth the organization of the Office of Single Family Housing. Since publication of the August 20, 2003, delegation of authority (68 FR 50167), a new division, the Home Valuation Policy Division, has been added to the Office of Single Family Program Development. Consequently, Section I. has been amended to reflect the new division in the organization of the Office of Single Family Housing. The authority redelegated to the new division is reflected in Section III.E of this notice.

Also, the redelegation of authority, at Section III, has been amended, at Section III.A, to indicate that source selection official authority has been redelegated by the Assistant Secretary for Housing—Federal Housing Commissioner (Assistant Secretary) to the Deputy Assistant Secretary for Single Family Housing and the Associate Deputy Assistant Secretary for Single Family Housing. Homeownership Center (HOC) Directors have also been redelegated source selection official authority, in Section III.L., subject to a dollar cap on their field-office based contracts, within their respective subject matter and geographical jurisdictions. These unpublished redelegations were most recently issued on March 17, 2004. The exercise of all source selection official authority (exercised in Headquarters and in the field) is subject to compliance with the Federal Acquisition Regulation (FAR); HUD Acquisition Regulation (HUDAR); and HUD's available funding, internal procurement plans, and processes for the approval of any procurement.

On July 18, 2005, the Assistant Secretary issued a redelegation of authority to management and marketing contractors (M&Ms) to execute routine documents necessary for the management and sale of single-family properties acquired by HUD in connection with its Single Family Housing Mortgage Insurance Program. This notice of redelegation of authority was published on July 26, 2005, at 70 FR 43171. The authority redelegated will be incorporated into this comprehensive redelegation of authority in new Section III.Q., Management and Marketing (M&M) Contractors. Therefore, this redelegation of authority supersedes the July 26, 2005 delegation of authority.

On September 17, 2003, the Assistant Secretary issued an unpublished redelegation of authority to certain staff in the Office of Housing's Caribbean Office enabling them to carry out duties in connection with the Single Family Property Disposition Program. In the usual course, these duties would be carried out by designated officials in the (Atlanta, GA) HOC. However, local law in Puerto Rico requires HUD staff in the Caribbean Office to accept conveyances of title. Accordingly, the redelegation was issued and is now incorporated into this comprehensive redelegation of authority in Section III.R.

Accordingly, the notice of redelegation of authority for single family housing programs is amended and updated, as follows:

Section I. Single Family Housing Programs—Office of Housing Organization

A. Office of Single Family Housing—Headquarters

All Office of Single Family Housing managers, in Headquarters and the field, report to the Deputy Assistant Secretary for Single Family Housing and Associate Deputy Assistant Secretary for Single Family Housing. In Headquarters, there are three major single family housing offices, each of which are headed by a Director and are comprised of Divisions. These offices are the following:

• The Office of Single Family Housing Program Development: This office is comprised of three divisions. The Home Mortgage Insurance Division is generally responsible for developing and implementing policies, procedures, and guidelines covering the pre-application through the final endorsement stage of FHA mortgage insurance cases, including mortgage loan origination and refinancing cases.

The Program Support Division is responsible for: administering HUD's Housing Counseling program; managing FHA's nonprofit mortgagor discount sales and secondary financing programs; maintaining the Single Family Housing Web site; producing single family housing brochures; overseeing the marketing of single family housing programs; and providing a wide variety of technical assistance to the three offices within the Office of Single Family Housing.

The Home Valuation Division is responsible for managing all single family property appraisal and valuation requirements. These functions include oversight and monitoring of appraisers, 203(k) consultants, and FHA-approved inspectors; analyzing single family property valuation issues, including standards and policies associated with new construction, property rehabilitation, home equity conversion mortgages, and modification of the 203(k) and Title I programs.

• The Office of Single Family Asset Management: This office is comprised of two divisions. The Single Family Servicing and Loss Mitigation Division is responsible for implementing the single family loan servicing and loss mitigation program, as well as for strategic planning and guidance in relation to HUD's mortgage loan portfolio. This portfolio includes loans that are currently insured by or that have been assigned to the Department. Although a Headquarters Division, its staff, including the Division director, is out-stationed to Oklahoma City and Tulsa, Oklahoma. Also, the loan servicing and loss mitigation function is carried out only by this Headquarters division, and not by any field office.

The Asset Management and Disposition Division develops policies and procedures for, and implements, the Single Family Property Disposition Program.

• The Office of Lender Activities and Program Compliance: This office consists of two divisions. The Lender Approval and Recertification Division assists in the development of criteria for approving FHA lenders. Applications from mortgage lenders seeking to become FHA mortgagees are filed with, reviewed, and granted or denied within this Division. The Division is also responsible for lender recertifications.

The second division, the Quality Assurance Division, is responsible for ensuring that FHA-approved lenders comply with requirements that govern lender practices. It monitors the performance of lenders and how well their loans perform on an ongoing basis. If necessary, the Office of Lender Approval and Program Compliance can work with lenders to improve their practices, or, at the other extreme, assist the Office of Housing in terminating a lender's FHA approval status.

B. Single Family Housing—Field Office Structure

In order to maximize efficiencies and empower people and communities, the Office of Single Family Housing undertook a major field reorganization several years ago. Today, the office has the following four HOCs in Atlanta, Georgia; Denver, Colorado; Philadelphia, Pennsylvania; and Santa Ana, California. These HOCs are responsible for the processing of cases within their respective geographic jurisdictions. In addition, Office of Single Family Housing employees, engaged in program support and lender monitoring activities, are out-stationed to locations throughout the United States. Among other things, these employees work within local communities to perform marketing and outreach activities, to ensure that the public is aware of and has access to Office of Housing programs. Program support staff evaluate and provide technical assistance to HUD-approved housing counseling agencies.

A uniform structure applies to all of the HOCs. The highest-ranking official in the HOC is the HOC Director, who is assisted by the HOC Deputy Director. Functions performed by HOC staff are distributed, according to type (e.g., production, quality assurance, etc.), among five Divisions, each of which is headed by a Division Director. The five HOC Divisions are titled:

(1) Processing and Underwriting;

(2) Quality Assurance;

(3) Program Support;

(4) Real Estate Owned; and

(5) Operations and Customer Service.

Division Directors report to the HOC Director and Deputy Director. (As is the case in Headquarters, all staff of report to the Deputy Assistant Secretary for Single Family Housing and the Associate Deputy Assistant Secretary for Single Family Housing.) The chart below identifies each HOC and its geographic jurisdiction.

ATLANTA HOMEOWNERSHIP CENTER
Atlanta | Indianapolis | Memphis | Miami
Jackson | Chicago | Nashville | Louisville
Jacksonville | Orlando | Birmingham | The Caribbean
Knoxville | Tampa | Columbia
Greensboro
DENVER HOMEOWNERSHIP CENTER
Denver | Omaha | Shreveport | Kansas City
Casper | Albuquerque | Fort Worth | Lubbock
Salt Lake City | Helena | Fargo | Dallas
Des Moines | San Antonio | Sioux Falls | Milwaukee
St. Louis | Tulsa | Little Rock | Minneapolis
Oklahoma City | New Orleans
PHILADELPHIA HOMEOWNERSHIP CENTER
Philadelphia | Cincinnati | Grand Rapids | Manchester
Albany | Camden | Boston | Charleston
New York | Buffalo | Bangor | Hartford
Providence | Burlington | Pittsburgh | Baltimore
Columbus | Washington, DC | Richmond | Wilmington
Detroit | Cleveland | Flint | Newark
SANTA ANA HOMEOWNERSHIP CENTER
Santa Ana | Los Angeles | San Diego | Anchorage
Fresno | Phoenix | San Francisco | Boise
Honolulu | Reno | Tucson | Portland
Las Vegas | Sacramento | Seattle | Spokane

Section II. Single Family Programs—Functions

The Office of Single Family Housing is charged with carrying out duties of the Assistant Secretary and General Deputy Assistant Secretary for Housing—Deputy Federal Housing Commissioner (General Deputy Assistant Secretary) as they relate to single family housing programs set forth in the Department of Housing and Urban Development Act. This broad range of programs enables HUD, in concert with program participants in the private and public sectors, to provide safe, decent, and affordable single family housing to millions of American families. Programs include the implementation of certain regulatory programs administered by the Office of Housing. They promote homeownership opportunities, provide for affordable housing financing, and help to educate mostly first-time homeowners on how to maintain a home. [Note: Single family housing programs, and functions related thereto, do not include activities performed by the Office of Housing under the Federal Housing Enterprises Financial Safety and Soundness Act of 1992 (FHEFSSA), 12 U.S.C. 4501 et seq. A separate office within the Office of Housing, the Office of Government Sponsored Enterprise Regulatory Staff, assists the Assistant Secretary in carrying out the provisions of FHEFSSA.]

Under this delegation, the Assistant Secretary redelegates broad program authority to the Deputy Assistant Secretary for Single Family Housing and the Associate Deputy Assistant Secretary for Single Family Housing and commensurate with their respective duties, Directors in Headquarters and in the Field.

Characterizing the redelegated authority in broad or generic terms will enable the above Deputy Assistant Secretary for Single Family Housing and Associate Deputy Assistant Secretary for Single Family Housing, and Directors in Headquarters and the field, to perform all functions necessary to accomplish single family housing program tasks and objectives.

In some past delegation notices, HUD has set forth, in “laundry list” fashion the detailed functions carried out by managers under generic function headings. However, publishing detailed lists has proven problematic, as some listed items become obsolete over time, while other functions are omitted through oversight. Conversely, this delegation sets forth functions in generic terms, while the preamble provides insights into the nature of the work performed by managers with delegated authority under each category. The basic single family housing program functions and a brief description of each are as follows:

A. General Authority

This authority allows managers to sign any and all documents necessary to carry out the business within their program and geographical jurisdictions. In addition, it allows managers, when considering a proposal, to waive any directives not mandated by statute or regulation for good cause and with a written justification.

B. Production

This function allows a manager with delegated authority to make all necessary determinations that relate to the insured mortgage process. Essentially, this category of functions begins with a proposal to insure a home mortgage and ends with the Department's endorsement of an insured mortgage. For all insurance programs, it includes, but is not limited to, such activities as approving direct endorsement lenders monitoring contract reviews: maintaining rosters and other lists of appraisers, inspectors, and lenders; performing underwriting reviews for mortgage credit; performing appraisal reviews; performing architectural field reviews; and setting mortgage limits.

C. Servicing and Loss Mitigation

Servicing and Loss Mitigation functions are intended to ensure the servicing of the Secretary-held mortgage portfolio and partial claims and the monitoring of FHA servicers' use of loss mitigation and timely reporting of defaulted, FHA-insured loans. Additional responsibilities include: writing off or compromising principal debt, up to a maximum of $100,000; providing on-site and off-site loss mitigation training to lenders, housing counseling agencies, and other FHA program offices within HUD; administering the Home Equity Conversion Mortgage (HECM) reverse equity mortgage program; operating a nationwide call center to respond to questions concerning loss mitigation and foreclosure relief programs; and supporting the Department's endeavor against predatory lending practices.

D. Quality Assurance

Quality assurance functions are intended to ensure that an FHA lender is in compliance with FHA lending requirements and procedures. Lenders that fail to meet FHA standards are subject to sanctions. Functions include: monitoring lender performance; reviewing default and insurance claim statistics; placing a lender on credit watch; making recommendations to the FHA Mortgagee Review Board for the imposition of sanctions; entering into indemnification agreements; or terminating a lender's FHA status.

E. Lender Approval and Recertification

The approval of new lenders and the recertification of existing lenders are FHA's “gatekeeping” functions. Functions include the approval of single family and multifamily lenders and processing the approval and recertification applications from Single Family Title I and Title II lenders, and multifamily lenders for participation in FHA programs. An additional function is the administration of the Institution Master File system, which is used to track the status of lenders and their various authorities and which also “feeds” lender data to over 20 of HUD/FHA's other data systems.

F. Grants

Every year, the Office of Single Family Housing issues a Notice of Funding Availability (NOFA) for the Single Family Housing Counseling Program. This competitive funding program is part of HUD's annual SuperNOFA publication that announces funding programs developed throughout the Department. In any given year, however, Congress may authorize funds for additional grant programs. The Assistant Secretary is the Grant Officer and thus the sole official responsible for making grantee selections. Other grant functions include developing criteria for grant applications, rating and ranking proposals, and selecting government technical representatives to oversee performance under the grant contracts. Once a grant is awarded, functions include monitoring a grantee's compliance with the agreement, modifying a grant, terminating a grant for non-compliance, and closing out a grant in the usual course. The Assistant Secretary will retain and not redelegate the authority of the Grant Officer to make selections of grantees or to approve recipient noncompetitive grants.

G. Program Demonstrations

Periodically, Congress enacts legislation authorizing HUD to conduct a program on a demonstration basis. The purpose of the demonstration is essential to test the viability of a new program or product on a limited basis, e.g., by geography, case volume, or time. Functions related to demonstration programs include developing program criteria, implementing the program, monitoring activities and results, preparing any required reports to the Congress, and closing out the demonstration program.

H. Property Disposition

Although most property disposition functions occur after HUD has acquired title to a property, there are exceptions that involve the pre-acquisition period. For example, in anticipation of acquiring title, HUD may decide to allow a family to remain in the conveyed property (i.e., an occupied conveyance). Pre-acquisition decisions will then concern approving a lease and setting a rent level. Other decisions concern a property's maintenance (or preservation) during the period of conveyance from a lender. HUD reviews claims for insurance benefits, and, once these are paid, the Department obtains title to a property and assumes the responsibilities of an owner. Among other things, HUD maintains the property, pays taxes and utility costs, and prepares it for sale. Contractors perform property maintenance functions, with HUD monitoring their work. Sales are conducted pursuant to a bidding process with functions ranging from advertising the property to execution of the deed upon a sale. HUD regulations governing single family property dispositions are set forth at 24 CFR part 291. Consistent with current practice, the Assistant Secretary will not delegate the authority under 24 CFR 291.210(c), entitled Direct sales to individuals or entities.

I. Debarments and Limited Denials of Participation

A participant or contractor or affiliate, other than a mortgagee, who fails to comply with HUD program regulations, rules, and/or procedures, can be denied the right to participate in a HUD program or programs. Procedures governing the nature and scope of proceedings for the issuance of a debarment or limited denial of participation are set forth in 24 CFR part 24. Only certain officials may issue such limited denials of participation pursuant to the process in the regulations. [Note: FHA-approved mortgagees are subject to an independent sanction process set forth in 24 CFR part 25.]

Section III. Single Family Programs—Authority Redelegated

As described in the paragraph that follows this one, The Assistant Secretary and the General Deputy Assistant Secretary retain and redelegate the following power and authority: (1) To the Deputy Assistant Secretary for Single Family Housing and Associate Deputy Assistant Secretary for Single Family Housing and (2) through the above Deputy Assistant Secretary and Associate Deputy Assistant Secretary, to the Headquarters Office Directors and Headquarters Deputy Office Directors listed below, and (3) through the Headquarters Single Family Office Directors and Deputy Office Directors, to the Headquarters and Field Office managers, and certain other officials.

A. Deputy Assistant Secretary and Associate Deputy Assistant Secretary, Office of Single Family Housing

Authority is redelegated, on a nationwide basis, to take all actions necessary to the conduct of all single family Housing programs, including, but not limited to, the exercise of the following functions:

(1) The general power to sign any documents necessary to perform enumerated functions, and to waive any directive that is not mandated by a statute or regulation;

(2) All production functions related to mortgage insurance, grant, or other programs;

(3) All loan servicing and loss mitigation functions, including the authority to act as a claims collection officer and to write off or compromise debt up to $100,000;

(4) All quality assurance functions;

(5) All functions necessary to administer grants and cooperative agreements awarded by the Assistant Secretary. However, noncompetitive contract awards proposed by assistance recipients subject to the administrative requirements for grants and cooperative agreements at 24 CFR part 85 may only be approved by the Assistant Secretary;

(6) All functions necessary to carry out a program conducted on a demonstration basis;

(7) All property disposition functions, other than authorizing direct sales under 24 CFR 291.210(c);

(8) Authority to conduct hearings concerning a lender or program participant's participation in HUD programs, and to issue (a) limited denials of participation, and (b) final debarment decisions, where a participant has elected not to contest the notice of proposed debarment of the Assistant Secretary; and

(9) Authority to perform all source selection official duties in connection with Single Family Housing procurement actions.

B. Director and Deputy Director, Office of Single Family Program Housing Development

Authority is redelegated, on a nationwide basis, to take all actions necessary to the conduct of single family housing programs, in relation to the following functions:

(1) The general power to sign any documents necessary to perform enumerated functions and to waive any directive that is not mandated by a statute or regulation;

(2) All production functions related to mortgage insurance, grant, or other programs;

(3) All functions necessary to carry out a cooperative agreement or competitive or non-competitive grant program, except for making grantee selections and approving recipient noncompetitive contracts; and

(4) All functions necessary to carry out a program conducted on a demonstration basis.

C. Director, Home Mortgage Insurance Division, Office of Single Family Housing Program Development

Authority is redelegated, on a nationwide basis, to take all actions necessary to the conduct of single family housing programs, in relation to the following functions:

(1) The general power to sign any documents necessary to perform enumerated functions and to waive any directive that is not mandated by a statute or regulation;

(2) All production functions related to mortgage insurance, grant, or other programs; and

(3) All functions necessary to carry out a program conducted on a demonstration basis.

D. Director, Program Support Division, Office of Single Family Housing Program Development

Authority is redelegated, on a nationwide basis, to take all actions and to perform all functions necessary to the conduct of the single family housing programs as follows:

(1) The general power to sign any documents necessary to perform enumerated functions and to waive any directive that is not mandated by statute or regulation;

(2) All functions necessary to carry out a cooperative agreement, competitive or non-competitive grant program except for making grantee selections and approving recipient noncompetitive contracts; and

(3) All functions necessary to carry out a program conducted on a demonstration basis.

E. Director, Valuation Policy Division, Office of Single Family Housing Program Development

Authority is redelegated, on a nationwide basis, to take all actions and to perform all functions necessary to the conduct of the single family housing programs, as follows:

(1) The general power to sign any documents necessary to perform enumerated functions and to waive any directive that is not mandated by statute or regulation;

(2) All production functions related to mortgage insurance, grant, or other programs; and

(3) All functions necessary to carry out a program conducted on a demonstration basis.

F. Director and Deputy Director, Office of Single Family Asset Management

Authority is redelegated, on a nationwide basis, to take all actions necessary to the conduct of single family housing programs, in relation to the following functions:

(1) The general power to sign any documents necessary to perform enumerated functions and to waive any directive that is not mandated by statute or regulation;

(2) Loan servicing and loss mitigation functions, including the authority to act as a claims collection officer and to write off or compromise debt up to $100,000;

(3) All property disposition functions other than authorizing direct sales under 24 CFR 291.210(c); and

(4) All functions necessary to carry out a program conducted on a demonstration basis.

G. Director, Single Family Servicing and Loss Mitigation Division, Office of Single Family Asset Management

Authority is redelegated, on a nationwide basis, to take all actions necessary to the conduct of single family housing programs in relation to the following functions:

(1) The general power to sign any documents necessary to perform enumerated functions and to waive any directive that is not mandated by statute or regulations; and

(2) All loan servicing and loss mitigation functions, including the authority to act as a claims collection officer and to write off or compromise debt up to $100,000.

H. Director, Asset Management and Property Disposition Division, Office of Single Family Asset Management

Authority is redelegated, on a nationwide basis, to take all actions necessary to the conduct of single family housing programs in relation to the following functions:

(1) The general power to sign any documents necessary to perform enumerated functions and to waive any directive that is not mandated by statute or regulation;

(2) All property disposition functions other than authorizing direct sales under 24 CFR 291.210(c); and

(3) All functions necessary to carry out a program conducted on a demonstration basis.

I. Director and Deputy Director, Office of Lender Activities and Program Compliance

Authority is redelegated, on a nationwide basis, to take all actions necessary to the conduct of single family housing programs in relation to the following functions:

(1) The general power to sign any documents necessary to perform enumerated functions and to waive any directive that is not mandated by statute or regulation;

(2) All quality assurance functions, including lender approval, re-certification, and program compliance functions;

(3) Authority to conduct hearings concerning a lender or program participants participation in HUD programs, and to issue one or more limited denials of participation; and

(4) All functions necessary to carry out a program conducted on a demonstration basis.

J. Director, Lender Approval and Re-certification Division, Office of Lender Activities and Program Compliance

Authority is redelegated, on a nationwide basis, to take all actions necessary to the conduct of single family housing programs, in relation to the following functions:

(1) The general power to sign any documents necessary to perform enumerated functions and to waive any directive that is not mandated by statute or regulation; and

(2) All functions related to approving and re-certifying FHA lenders.

K. Director, Quality Assurance Division, Office of Lender Activities and Program Compliance

Authority is redelegated, on a nationwide basis, to take all actions necessary to the conduct of single family housing programs, in relation to the following functions:

(1) The general power to sign any documents necessary to perform enumerated functions and to waive any directive that is not mandated by statute or regulation;

(2) Monitor lender performance and default and claim rates and to enter into indemnification agreements; and

(3) All quality assurance functions related to program compliance by approved FHA lenders.

L. Homeownership Center-Director and Deputy Director

Authority is redelegated, within their respective jurisdictions, to take all actions necessary to the conduct of all single family housing programs including, but not limited to, the exercise of the following functions:

(1) The general power to sign any documents necessary to perform enumerated functions, and to waive any directive that is not mandated by a statute or regulation;

(2) All production functions related to mortgage insurance, grant, or other programs;

(3) Monitoring of lender performance and default and claim rates and the entering into of indemnification agreements;

(4) All functions necessary to carry out a cooperative agreement, competitive or non-competitive grant program, except for making grantee selections and approving recipient noncompetitive contracts;

(5) All functions necessary to carry out a program conducted on a demonstration basis;

(6) All property disposition functions other than authorizing direct sales under 24 CFR 291.210(c);

(7) Authority to issue limited denials of participation;

(8) Authority pursuant to 24 CFR 200.204(a)(2)(iii) to administer the appeals process in connection with the removal of an appraiser from the appraiser roster and to issue a final decision concerning an appraisers removal from the roster; and

(9) Authority to perform source selection official duties in connection with field-office based single family housing procurement actions, provided that the (a) contract amount is less than $10 million, and (b) authority is exercised only by the HOC Director.

M. Homeownership Center-Processing and Underwriting Division Director

Authority is redelegated, within their respective jurisdictions, to take all actions necessary to the conduct of all single family housing programs including, but not limited to, the exercise of the following functions:

(1) The general power to sign any documents necessary to perform enumerated functions but not to issue waivers of directives;

(2) All production functions related to mortgage insurance, grant, or other programs;

(3) All functions necessary to carry out a program conducted on a demonstration basis; and

(4) Authority pursuant to 24 CFR 200.204(a)(2)(iii) to issue the written notice of proposed roster removal to an appraiser.

N. Homeownership Center-Quality Assurance Division Director:

Authority is redelegated, within their respective jurisdictions, to take all actions necessary to the conduct of all single family housing programs including, but not limited to, the exercise of the following functions:

(1) The general power to sign any documents necessary to perform enumerated functions but not to issue waivers of directives; and

(2) Monitor lender performance and default and claim rates and to enter into indemnification agreements.

O. Homeownership Center-Program Support Division Director

Authority is redelegated, within their respective jurisdictions, to take all actions necessary to the conduct of all single family housing programs including, but not limited to, the exercise of the following functions:

(1) The general power to sign any documents to perform enumerated functions but not to issue waivers of directives;

(2) All functions necessary to carry out a cooperative agreement, competitive or non-competitive grant program, except for making grantee selections and approving recipient noncompetitive contracts; and

(3) All functions necessary to carry out a program conducted on a demonstration basis.

P. Homeownership Center-Real Estate Owned Division Director

Authority is redelegated, within their respective jurisdictions, to take all actions necessary to the conduct of all single family housing programs including, but not limited to, the exercise of the following functions:

(1) The general power to sign any documents necessary to perform enumerated functions but not to issue waivers of directives;

(2) All property disposition functions other than authorizing direct sales under 24 CFR 291.210(c); and

(3) All functions necessary to carry out a demonstration conducted on a demonstration basis.

Q. Particular Management and Marketing (M&M) Contractor Officials

Authority to execute all documents necessary in connection with the management and sale of residential real property acquired by HUD under its insured mortgage and asset management and disposition programs, excluding indemnification agreements, but including the authority to acknowledge, seal, and deliver any agreements of sale, special warranty deeds, form HUD-1 Settlement Statements, and any other instrument that may be necessary in connection with property management and sales on behalf of the Department, is redelegated to certain principals and/or officers of HUD's M&Ms whose identity will be maintained at its Web site located at http://www.hud.gov/offices/hsg/sfh//reo/reo_home.cfm.

R. Supervisory Housing Program Specialist, Office of Single Family Housing's Caribbean Office

(1) The general power to sign any documents necessary to perform the property disposition function identified immediately below and to waive any directive that is not mandated by statute or regulation; and

(2) The authority to accept conveyances of title to the Secretary to one-to-four unit properties.

Section IV. Authority Excepted

The authority redelegated in Section III.A through R does not include authority to issue or waive regulations or to take any action authorized under FHEFSSA or the Department's regulations implementing FHEFSSA.

Section V. Further Redelegations

The authority redelegated by the Assistant Secretary for Housing-Federal Housing Commissioner and the General Deputy Assistant Secretary-Deputy Federal Housing Commissioner may not be further redelegated by the officials identified in Section III.A through R.

Section VI. Revocation of Delegations

All prior redelegations issued by the Assistant Secretary for Housing to staff in the Office of Single Family Housing are hereby superseded and/or revoked. The Assistant Secretary for Housing-Federal Housing Commissioner or the General Deputy Assistant Secretary for Housing-Deputy Federal Housing Commissioner may, at any time, revoke any of the authority redelegated in this notice. Revocation shall be effective upon the date of removal. With respect to the officials identified in Section Q, revocation shall be effective upon removal of the affected principal or officer's name from the Web site referenced in Section Q. Notice of any revocation will be published in the Federal Register.

Authority: Section 7(d), Department of Housing and Urban Development Act, 42 U.S.C. 3535(d).

Dated: September 15, 2006.
Brian D. Montgomery,
Assistant Secretary for Housing—Federal Housing Commissioner.

[FR Doc. E6-16861 Filed 10-11-06; 8:45 am]

BILLING CODE 4210-67-P